DEPARTMENT OF THE INTERIOR

Bureau of Land Management

Temporary Road Closure of BLM-Administered Road; Rio Blanco County, CO

AGENCY: Bureau of Land Management, Interior.

ACTION: Temporary Road Closure of BLM-Administered Road; Rio Blanco County, Colorado.

SUMMARY: Notice is hereby given that a certain access road in Rio Blanco County, Colorado, is closed to all entry or use by all members of the public. The closure is made under the authority of 43 CFR 8364.1. The public road affected by this closure is specifically identified as follows:

Sixth Principal Meridian, Colorado

T. 95 W., R. 3 S.

Section 18 NW ¼,

BLM Road 1005, Piceance Creek Crossing at Sprague Gulch.

The following persons, operating within the scope of their official duties, are exempt from the provisions of this closure order: Dan and Cheryl Johnson/ Piceance Creek Ranch, Bureau of Land Management employees, state, local, and Federal law enforcement and fire protection personnel. Access by additional parties may be allowed, but must be approved in advance in writing by the Authorized Officer.

Any person who fails to comply with the provisions of this closure order may be subject to the penalties provided in 43 CFR 8360.0-7, which include a fine not to exceed $1,000 and/or imprisonment not to exceed 12 months, as well as the penalties provided under Colorado State law.

The road closed to public use under this order will be posted with signs at points of public access.

The purpose of this closure is to protect persons and public resources from a low water stream crossing made unsafe by unstable streambed and banks, and an excessive buildup of ice.

DATES: This closure is effective as of 12 noon, January 22, 2008 and will remain in effect until June 1, unless otherwise directed by the authorizing officer.

ADDRESSES: Copies of the closure order and maps showing the location of the road are available from the White River Field Office, 220 E. Market Street, Meeker, Colorado 81641.

FOR FURTHER INFORMATION CONTACT: Kent Walter, Field Manager, White River Field Office, at (970) 878-3800.

Dated: January 28, 2008.
Kent Walter,
Field Manager, White River Field Office.

[FR Doc. E8-2255 Filed 2-6-08; 8:45 am]

BILLING CODE 4310-JP-P